DEPARTMENT OF ENERGY

Federal Energy Regulatory Commission

Combined Notice of Filings #2

Take notice that the Commission received the following electric corporate filings:

Docket Numbers: EC17-74-000.

Applicants: Duke Energy Florida, LLC.

Description: Supplement to January 30, 2017 Application for Authorization under Section 203 of the FPA (Exhibit I) of Duke Energy Florida, LLC.

Filed Date: 2/17/17.

Accession Number: 20170217-5091.

Comments Due: 5 p.m. ET 3/10/17.

Take notice that the Commission received the following electric rate filings:

Docket Numbers: ER13-1465-003.

Applicants: El Paso Electric Company.

Description: Compliance filing: Re-filing to Align OATT Attachment K to be effective 10/1/2015.

Filed Date: 2/21/17.

Accession Number: 20170221-5172.

Comments Due: 5 p.m. ET 3/14/17.

Docket Numbers: ER16-2304-001.

Applicants: Duke Energy Florida, LLC.

Description: Report Filing: BPA NITSA (CEC Load) Rev 2 to be effective 3/1/2017.

Filed Date: 2/16/17.

Accession Number: 20170216-5063.

Comments Due: 5 p.m. ET 3/9/17.

Docket Numbers: ER17-790-000.

Applicants: Cimarron Bend Wind Project II, LLC.

Description: Amendment to January 13, 2017 Cimarron Bend Wind Project II, LLC tariff filing.

Filed Date: 2/17/17.

Accession Number: 20170217-5173.

Comments Due: 5 p.m. ET 3/6/17.

Docket Numbers: ER17-1004-000.

Applicants: PacifiCorp.

Description: § 205(d) Rate Filing: BPA NITSA (CEC Load) Rev 2 to be effective 3/1/2017.

Filed Date: 2/21/17.

Accession Number: 20170221-5167.

Comments Due: 5 p.m. ET 3/14/17.

Docket Numbers: ER17-1005-000.

Applicants: Southwest Power Pool, Inc.

Description: § 205(d) Rate Filing: 2855R2 KMEA & KCPL Meter Agent Agreement to be effective 2/1/2017.

Filed Date: 2/21/17.

Accession Number: 20170221-5202.

Comments Due: 5 p.m. ET 3/14/17.

Take notice that the Commission received the following qualifying facility filings:

Docket Numbers: QF17-690-000.

Applicants: Archer Daniels Midland Company.

Description: Form 556 of Archer Daniels Midland Company [Marshall].

Filed Date: 2/17/17.

Accession Number: 20170217-5250.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2017.
Nathaniel J. Davis, Sr.,
Deputy Secretary.

[FR Doc. 2017-03762 Filed 2-24-17; 8:45 am]

BILLING CODE 6717-01-P